DEPARTMENT OF COMMERCE

International Trade Administration

[C-428-817]

Certain Cut-to-Length Carbon Steel Plate From Germany: Extension of Time Limit for Preliminary Results of Countervailing Duty Administrative Reviews

AGENCY: Import Administration, International Trade Administration, Department of Commerce.

EFFECTIVE DATE: April 12, 2000.

FOR FURTHER INFORMATION CONTACT: Robert Copyak at (202) 482-2209, Import Administration, International Trade Administration, Department of Commerce, 14th Street and Constitution Avenue, NW., Washington, DC 20230.

Time Limits

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within these time periods, section 751(a)(3)(A) of the Act allows the Department to extend the time period for the preliminary determination to a maximum of 365 days and for the final determination to 180 days (or 300 days if the Department does not extend the time limit for the preliminary determination) from the date of publication of the preliminary determination.

Background

On November 4, 1998, the Department published a notice of initiation of administrative review of the countervailing duty order on certain cut-to-length carbon steel plate from Germany, covering the period January 1, 1997, through December 31, 1997 (64 FR 60161). As of October 29, 1998, the Department had deferred that administrative review for one year (63 FR 58009). On October 1, 1999, the Department published a notice of initiation of administrative review of the countervailing duty order on certain cut-to-length carbon steel plate from Germany, covering the period January 1, 1998, through December 31, 1998 (64 FR 53318). The preliminary results of these two administrative reviews are currently due no later than May 2, 2000.

Extension of the Time Limit for Preliminary Results

We determine that it is not practicable to complete the preliminary results of these reviews within the original time limit. Therefore, the Department is extending the time limit for completion of the preliminary results until no later than August 30, 2000. See Memorandum from John Brinkman, Acting Director, AD/CVD Enforcement Office VI, to Holly A. Kuga, Acting Deputy Assistant Secretary for Import Administration, Group II, dated March 31, 2000, which is on file in the Central Records Unit, Room B-099 of the main Commerce building. We intend to issue the final results no later than 120 days after publication of the preliminary results notice.

This extension is in accordance with section 751(a)(3)(A) of the Act.

Dated: April 4, 2000.
Holly A. Kuga,
Acting Deputy Assistant Secretary for Import Administration, Group II.

[FR Doc. 00-9105 Filed 4-11-00; 8:45 am]

BILLING CODE 3510-DS-P